DEPARTMENT OF TRANSPORTATION

Federal Aviation Administration

Thirty Seventh RTCA SC-213 Enhanced Flight Vision Systems/Synthetic Vision Systems (EFVS/SVS) Plenary Joint With EUROCAE WG-79

AGENCY: Federal Aviation Administration (FAA), U.S. Department of Transportation (DOT).

ACTION: Thirty Seventh RTCA SC-213 Enhanced Flight Vision Systems/Synthetic Vision Systems (EFVS/SVS) Plenary Joint with EUROCAE WG-79.

SUMMARY: The FAA is issuing this notice to advise the public of a meeting of Thirty Seventh RTCA SC-213 Enhanced Flight Vision Systems/Synthetic Vision Systems (EFVS/SVS) Plenary Joint with EUROCAE WG-79.

DATES: The meeting will be held January 29, 2018, 10:00 a.m.-12:00 p.m.

ADDRESSES: The meeting will be held at: RTCA Headquarters, 1150 18th Street NW, Suite 910, Washington, DC 20036 and with virtual participation.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Thirty Seventh RTCA SC-213 Enhanced Flight Vision Systems/Synthetic Vision Systems (EFVS/SVS) Plenary Joint with EUROCAE WG-79. The agenda will include the following:

Monday, January 29, 2018 10:00 a.m.-12:00 p.m.

1. Welcome/Administrative Duties

2. IPR/Membership Call-Out and Introductions

3. Consider a Motion To Begin Open Consultation/Final Review and Comment for the CVS MASPS

4. New Business

5. Review Action Items

6. Adjourn

Attendance is open to the interested public but limited to space availability. Webex connection information can be provided. With the approval of the chairman, members of the public may present oral statements at the meeting. Persons wishing to present statements or obtain information should contact the person listed in the FOR FURTHER INFORMATION CONTACT section. Members of the public may present a written statement to the committee at any time.

Issued in Washington, DC on January 2, 2018.
John Raper,
Manager, Partnership Contracts Branch, ANG-A17 (Acting), NextGen, Procurement Services Division, Federal Aviation Administration.

[FR Doc. 2018-00061 Filed 1-5-18; 8:45 am]

BILLING CODE 4910-13-P